DEPARTMENT OF COMMERCE

International Trade Administration

[A-570-970]

Multilayered Wood Flooring From the People's Republic of China: Correction to the Final Results of Antidumping Duty Administrative Review

AGENCY: Enforcement and Compliance, International Trade Administration, Department of Commerce.

FOR FURTHER INFORMATION CONTACT: Lilit Astvatsatrian or William Horn, AD/CVD Operations, Office IV, Enforcement and Compliance, International Trade Administration, Department of Commerce, 14th Street and Constitution Avenue NW., Washington, DC 20230; telephone: (202) 482-6412 or (202) 482-2615, respectively.

SUPPLEMENTARY INFORMATION: On July 15, 2015, the Department of Commerce (“Department”) published the final results of the 2012-2013 administrative review of the antidumping duty order on multilayered wood flooring from the People's Republic of China.¹ The period of review (“POR”) is December 1, 2012, through November 30, 2013. The Department is issuing this notice to correct an inadvertent error in the Final Results. Specifically, the Department initiated a review of Jianfeng Wood (Suzhou) Co., Ltd. (“Jianfeng”),² and the company listed in the Final Results is also Jianfeng, however, the record reflects that the correct company name, and the company to which the Department assigned a separate rate, is Jiafeng Wood (Suzhou) Co., Ltd. (“Jiafeng”).³ Accordingly, we intended to include Jiafeng, not Jianfeng, in the list of companies that received a separate rate during the POR as identified in our Final Results.⁴

¹ See Multilayered Wood Flooring from the People's Republic of China: Final Results of Antidumping Duty Administrative Review; 2012-2013, 80 FR 4476 (July 15, 2015) (“Final Results”).

² See Initiation of Antidumping and Countervailing Duty Administrative Reviews and Request for Revocation in Part, 79 FR 6147 (February 3, 2014).

³ See April 3, 2014 Separate Rate Certification for Jiafeng Wood (Suzhou) Co., Ltd. (“Jiafeng”).

⁴ Note that the Department has also placed a memorandum on the file clarifying how it will instruct U.S. Customs and Border Protection with respect to certain other companies covered by this review. See “Memorandum Regarding Company Names in Final Results” (August 6, 2015). This clarification is consistent with the names of the companies as published in the Final Results, and the Department is not correcting anything in the Final Results with respect to those companies.

This correction to the final results of administrative review is issued and published in accordance with sections 751(h) and 777(i) of the Tariff Act of 1930, as amended.

Dated: August 11, 2015.
Christian Marsh,
Deputy Assistant Secretary for Antidumping and Countervailing Duty Operations.

[FR Doc. 2015-20390 Filed 8-17-15; 8:45 am]

BILLING CODE 3510-DS-P